DEPARTMENT OF TRANSPORTATION

Federal Aviation Administration

14 CFR Part 97

[Docket No. 30950; Amdt. No. 3583]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 17, 2014. The compliance date for each SIAP, associated Takeoff Minimums, and ODP is specified in the amendatory provisions.

The incorporation by reference of certain publications listed in the regulations is approved by the Director of the Federal Register as of April 17, 2014.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK. 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on March 14, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 1 MAY 2014

Traverse City, MI, Cherry Capitol, RNAV (GPS) RWY 18, Orig

Memphis, TN, Memphis Intl, ILS OR LOC RWY 27, Amdt 4A

Memphis, TN, Memphis Intl, RNAV (GPS) RWY 27, Amdt 2A

Nashville, TN, John C Tune, Takeoff Minimums and Obstacle DP, Amdt 1

Shelton, WA, Sanderson Field, GPS RWY 23, Amdt 1, CANCELED

Shelton, WA, Sanderson Field, NDB-A, Amdt 3

Shelton, WA, Sanderson Field, RNAV (GPS) RWY 23, Orig

Effective 29 MAY 2014

Central, AK, Central, RNAV (GPS) RWY 8, Orig

Central, AK, Central, RNAV (GPS) RWY 26, Orig

Central, AK, Central, Takeoff Minimums and Obstacle DP, Orig

Eagle, AK, Eagle, RNAV (GPS)-A, Orig

Eagle, AK, Eagle, Takeoff Minimums and Obstacle DP, Orig

Holy Cross, AK, Holy Cross, RNAV (GPS) RWY 1, Orig-B

Holy Cross, AK, Holy Cross, RNAV (GPS) RWY 19, Orig-B

Colorado Springs, CO, City of Colorado Springs Muni, ILS OR LOC RWY 17L, ILS RWY 17L (SA CAT I), ILS RWY 17L (SA CAT II), Amdt 2

Colorado Springs, CO, City of Colorado Springs Muni, RNAV (GPS) Y RWY 17L, Amdt 2

Colorado Springs, CO, City of Colorado Springs Muni, RNAV (RNP) Z RWY 17L, Amdt 1

Meeker, CO, Meeker Coulter Fld, RNAV (GPS) RWY 3, Amdt 3A

Kahului, HI, Kahului, Takeoff Minimums and Obstacle DP, Amdt 7

Belleville, IL, Scott AFB/MidAmerica, ILS OR LOC RWY 32R, Orig-E

Belleville, IL, Scott AFB/MidAmerica, ILS OR LOC/DME RWY 14L, Orig-E

Belleville, IL, Scott AFB/MidAmerica, RNAV (GPS) RWY 32R, Orig-A

Vandalia, IL, Vandalia Muni, VOR RWY 18, Amdt 12

Madison, IN, Madison Muni, RNAV (GPS) RWY 3, Amdt 1B

Madison, IN, Madison Muni, VOR/DME RWY 3, Amdt 9, CANCELED

North Vernon, IN, North Vernon, RNAV (GPS) RWY 5, Orig-A

Manistee, MI, Manistee Co.-Blacker, ILS OR LOC RWY 28, Amdt 1A

Manistee, MI, Manistee Co.-Blacker, RNAV (GPS) RWY 10, Orig-A

Manistee, MI, Manistee Co.-Blacker, RNAV (GPS) RWY 28, Orig-A

Manistee, MI, Manistee Co.-Blacker, Takeoff Minimums and Obstacle DP, Amdt 7

Manistee, MI, Manistee Co.-Blacker, VOR RWY 10, Amdt 1A

Manistee, MI, Manistee Co.-Blacker, VOR RWY 28, Amdt 1A

Lamar, MO, Lamar Muni, NDB RWY 3, Amdt 1, CANCELED

Lamar, MO, Lamar Muni, RNAV (GPS) RWY 3, Amdt 1

Lamar, MO, Lamar Muni, RNAV (GPS) RWY 17, Orig

Lamar, MO, Lamar Muni, RNAV (GPS) RWY 35, Orig

Lamar, MO, Lamar Muni, Takeoff Minimums and Obstacle DP, Amdt 1

Bemidji, MN, Bemidji Rgnl, VOR/DME RWY 13, Amdt 1

Bemidji, MN, Bemidji Rgnl, VOR/DME RWY 31, Amdt 1

Albuquerque, NM, Albuquerque Intl Sunport, RADAR-1, Amdt 21

Albuquerque, NM, Albuquerque Intl Sunport, RNAV (RNP) Y RWY 26, Amdt 1

Albuquerque, NM, Albuquerque Intl Sunport, RNAV (RNP) Z RWY 8, Amdt 1

Albuquerque, NM, Albuquerque Intl Sunport, RNAV (RNP) Z RWY 21, Amdt 1

Albuquerque, NM, Albuquerque Intl Sunport, RNAV (RNP) Z RWY 26, Amdt 1

Albuquerque, NM, Albuquerque Intl Sunport, Takeoff Minimums and Obstacle DP, Amdt 7

Silver City, NM, Grant County, SILVER CITY ONE, Graphic DP

Silver City, NM, Grant County, Takeoff Minimums and Obstacle DP, Amdt 2

Wilmington, OH, Wilmington Air Park, VOR RWY 4L, Amdt 6

Clinton, OK, Clinton Rgnl, Takeoff Minimums and Obstacle DP, Amdt 1

Ballinger, TX, Bruce Field, NDB RWY 35, Amdt 2, CANCELED

Baytown, TX, RWJ Airpark, Takeoff Minimums and Obstacle DP, Amdt 1

Devine, TX, Devine Muni, RNAV (GPS) RWY 35, Orig-A

Hamilton, TX, Hamilton Muni, NDB RWY 36, Amdt 1, CANCELED

Houston, TX, George Bush Intercontinental/Houston, ILS OR LOC RWY 8L, ILS RWY 8L (CAT II), ILS RWY 8L (CAT III), ILS RWY 8L (SA CAT I), Amdt 4

Houston, TX, George Bush Intercontinental/Houston, ILS OR LOC RWY 8R, ILS RWY 8R (SA CAT II), ILS RWY 8R (SA CAT I), Amdt 25

Houston, TX, George Bush Intercontinental/Houston, ILS OR LOC RWY 9, ILS RWY 9 (SA CAT I), ILS RWY 9 (SA CAT II), Amdt 10

Houston, TX, George Bush Intercontinental/Houston, ILS OR LOC RWY 15R, Amdt 2

Houston, TX, George Bush Intercontinental/Houston, ILS OR LOC RWY 26L, ILS RWY 26L (SA CAT I), ILS RWY 26L (CAT II), ILS RWY 26L (CAT III), Amdt 21

Houston, TX, George Bush Intercontinental/Houston, ILS OR LOC RWY 26R, ILS RWY 26R (SA CAT I), ILS RWY 26R (CAT II), ILS RWY 26R (CAT III), Amdt 4

Houston, TX, George Bush Intercontinental/Houston, ILS OR LOC RWY 27, ILS RWY 27 (CAT II), ILS RWY 27 (CAT III), ILS RWY 27 (SA CAT I), Amdt 10

Houston, TX, George Bush Intercontinental/Houston, ILS OR LOC RWY 33R, Amdt 13

Houston, TX, George Bush Intercontinental/Houston, RNAV (GPS) RWY 15R, Amdt 2

Houston, TX, George Bush Intercontinental/Houston, RNAV (GPS) RWY 33R, Amdt 2

Houston, TX, George Bush Intercontinental/Houston, RNAV (GPS) Z RWY 8L, Amdt 5

Houston, TX, George Bush Intercontinental/Houston, RNAV (GPS) Z RWY 9, Amdt 5

Houston, TX, George Bush Intercontinental/Houston, RNAV (GPS) Z RWY 26L, Amdt 4

Houston, TX, George Bush Intercontinental/Houston, RNAV (GPS) Z RWY 26R, Amdt 4

Houston, TX, George Bush Intercontinental/Houston, RNAV (GPS) Z RWY 27, Amdt 4

Houston, TX, George Bush Intercontinental/Houston, RNAV (RNP) Y RWY 8L, Orig

Houston, TX, George Bush Intercontinental/Houston, RNAV (RNP) Y RWY 27, Amdt 1

Houston, TX, William P Hobby, ILS OR LOC RWY 4, ILS RWY 4 (SA CAT I), ILS RWY 4 (CAT II), ILS RWY 4 (CAT III), Amdt 41

Houston, TX, William P Hobby, ILS OR LOC RWY 12R, Amdt 12B

Houston, TX, William P Hobby, ILS OR LOC RWY 30L, Amdt 6A

Houston, TX, William P Hobby, LOC RWY 22, Amdt 1A

Houston, TX, William P Hobby, RNAV (GPS) RWY 4, Amdt 2B

Houston, TX, William P Hobby, RNAV (GPS) RWY 12R, Amdt 1B

Houston, TX, William P Hobby, RNAV (GPS) RWY 17, Amdt 1A

Houston, TX, William P Hobby, RNAV (GPS) RWY 22, Amdt 2B

Houston, TX, William P Hobby, RNAV (GPS) RWY 30L, Amdt 2A

Houston, TX, William P Hobby, RNAV (GPS) RWY 35, Amdt 1B

Houston, TX, William P Hobby, Takeoff Minimums and Obstacle DP, Amdt 6

La Porte, TX, La Porte Muni, Takeoff Minimums and Obstacle DP, Amdt 6

Liberty, TX, Liberty Muni, Takeoff Minimums and Obstacle DP, Amdt 1

Heber, UT, Heber City Muni-Russ McDonald Field, Takeoff Minimums and Obstacle DP, Amdt 3A

RESCINDED: On March 3, 2014 (79 FR 11703), the FAA published an Amendment in Docket No. 30941, Amdt No. 3575 to Part 97 of the Federal Aviation Regulations under section 97.33. The following entry for Murrieta/Temecula, CA, effective 3 April 2014 is hereby rescinded in its entirety:

Murrieta/Temecula, CA, French Valley, RNAV (GPS) RWY 18, Amdt 2

RESCINDED: On March 5, 2014 (79 FR 12381), the FAA published an Amendment in Docket No. 30943, Amdt No. 3577 to Part 97 of the Federal Aviation Regulations under section 97.29. The following entry for Dallas, TX, effective 6 March 2014 is hereby rescinded in its entirety:

Dallas, TX, Collin County Rgnl At Mc Kinney, ILS OR LOC RWY 18, Amdt 5

[FR Doc. 2014-08103 Filed 4-16-14; 8:45 am]

BILLING CODE 4910-13-P